DEPARTMENT OF AGRICULTURE

Forest Service

Information Collection: Annual Wildfire Summary Report

AGENCY: Forest Service, USDA.

ACTION: Notice; request for comment.

SUMMARY: In accordance with the Paperwork Reduction Act of 1995, the Forest Service is seeking comments from all interested individuals and organizations on the extension of a currently approved information collection; Annual Wildfire Summary Report.

DATES: Comments must be received in writing on or before August 29, 2016 to be assured of consideration. Comments received after that date will be considered to the extent practicable.

ADDRESSES: Comments concerning this notice should be addressed to Tim Melchert, Fire and Aviation Management, National Interagency Fire Center, USDA Forest Service, 3833 S. Development Avenue, Boise, ID 83705.

Comments also may be submitted via facsimile to 208-387-5375 or by email to: tmelchert@fs.fed.us.

The public may inspect comments received at National Interagency Fire Center, 3833 S. Development Avenue, Boise, ID 83705 during normal business hours. Visitors are encouraged to call ahead to 208-387-5604 to facilitate entry to the building.

FOR FURTHER INFORMATION CONTACT: Tim Melchert, Fire and Aviation Manager, National Interagency Fire Center, 208-387-5887.

Individuals who use TDD may call the Federal Relay Service (FRS) at 1-800-877-8339, 24 hours a day, every day of the year, including holidays.

SUPPLEMENTARY INFORMATION:

Title: Annual Wildfire Summary Report.

OMB Number: 0596-0025.

Expiration Date of Approval: August 31, 2016.

Type of Request: Extension of a currently approved collection.

Abstract: The Cooperative Forestry Assistance Act of 1978 (16 U.S.C. 2101 (note) Sec. 10) requires the Forest Service to collect information about wildfire suppression efforts by State and local firefighting agencies in support of congressional funding requests for the Forest Service State and Private Forestry Cooperative Fire Program. The program provides supplemental funding for State and local firefighting agencies. The Forest Service works cooperatively with State and local firefighting agencies to support their fire suppression efforts.

State fire marshals and State forestry officials use form FS-3100-8 (Annual Wildfire Summary Report) to report information to the Forest Service regarding State and local wildfire suppression efforts. The Forest Service is unable to assess the effectiveness of the State and Private Forestry Cooperative Fire Program without this information. Forest Service managers evaluate the information to determine if the Cooperative Fire Program funds used by State and local fire agencies have improved fire suppression capabilities. The Forest Service shares the information with Congress as part of the annual request for funding for this program.

The information collected includes the number of fires responded to by State or local firefighting agencies within a fiscal year, as well as the following information pertaining to such fires:

• Fire type (timber, structural, or grassland);

• Size (in acres) of the fires;

• Cause of fires (lightning, campfires, arson, etc.); and

• Suppression costs associated with the fires.

The data gathered is not available from any other sources.

Estimate of Burden per Response: 30 minutes.

Type of Respondents: State fire marshals or State forestry officials.

Estimated Annual Number of Respondents: 56.

Estimated Annual Number of Responses per Respondent: 1.

Estimated Total Annual Burden on Respondents: 28 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: June 21, 2016.
James E. Hubbard,
Deputy Chief, State and Private Forestry.

[FR Doc. 2016-15335 Filed 6-28-16; 8:45 am]

BILLING CODE 3411-15-P